DEPARTMENT OF COMMERCE

National Oceanic and Atmospheric Administration

RIN 0648-XV038

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day in-person meeting of its Standing, Reef Fish, Mackerel and Socioeconomic Scientific and Statistical Committees (SSC).

DATES: The meeting will begin at 8:30 a.m. on Tuesday, September 17, 2019 and adjourn by 5 p.m., EDT on Wednesday, September 18, 2019.

ADDRESSES: The meeting will be held at the Gulf Council's office; see address below.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Tuesday, September 17, 2019; 8:30 a.m.-5 p.m.

The meeting will begin with Introductions, Adoption of Agenda, Scope of Work, Approval of Scientific and Statistical Committees (SSC) Minutes from the July 30-31, 2019 Standing, Reef Fish, Mackerel, and Socioeconomic SSC meeting; and, Selection of SSC representative to attend the October 21-24, 2019 Council meeting in Galveston, TX. The committees will review stock assessment for SEDAR 61—Gulf of Mexico Red Grouper; receive a presentation of model, results, and projections from the Southeast Fisheries Science Center (SEFSC); and, discuss Stock Status Determination, Overfishing Limits (OFL) and Acceptable Biological Catch (ABC) Recommendation. The committees will receive the SEDAR 61 Executive Summary from SEFSC and Council Staff; and, an update on the Itarget Model and Projections for Gulf Lane Snapper; discussion of variability in yield projections from stock assessments; review SEFSC Key Stocks Analysis; and, review of South Atlantic Council SSC recommendations for MRIP APAIS/FES Survey methods.

Wednesday, September 18, 2019; 8:30 a.m.-5 p.m.

The committees will review the White Paper on SEDAR Best Practices for use of Recreational Survey Data from SEFSC staff; discuss Council Research and Monitoring Priorities for 2020-24; review of Status Determination Criteria Amendment; and, the Gulf SEDAR Assessment Schedule. Council staff will review scope of work for Gray Snapper Operational Assessment; review the Terms of Reference and Participants for SEDAR 70: Gulf of Mexico Greater Amberjack and SEDAR 73: Gulf of Mexico Gag; hold a discussion on Allocation Review; and, review the National Standard 1 Technical Guidance for Designing, Evaluating, and Implementing Carry-over and Phase-in Provisions within ABC Control Rules; and, any other business items.

—Meeting Adjourns—

The meeting will be broadcast via webinar. You may register for listen-in access by visiting www.gulfcouncil.org and clicking on the SSC meeting on the calendar.

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: August 22, 2019.
Tracey L. Thompson,
Acting Deputy Director, Office of Sustainable Fisheries, National Marine Fisheries Service.

[FR Doc. 2019-18457 Filed 8-26-19; 8:45 am]

BILLING CODE 3510-22-P